Title 3—

The President

Proclamation 7608 of October 11, 2002

National Cystic Fibrosis Awareness Week, 2002

By the President of the United States of America

A Proclamation

Cystic fibrosis is one of the most common fatal genetic diseases in the United States. During this week, we renew our commitment to fighting this deadly disease that affects an estimated 30,000 American men, women, and children.

Cystic fibrosis is a genetic disorder that can be passed on directly from parents to children. Millions of Americans are unknowing, symptom-free carriers of the defective gene that can cause this disease. When both parents are carriers of the abnormal gene, their children have a 1 in 4 chance of being born with the disorder. Individuals who suffer from cystic fibrosis experience frequent lung infections and digestive problems caused by cell disorders in the lining of the lungs, small intestines, sweat glands, and pancreas.

Though there is as yet no known cure for cystic fibrosis, scientists and researchers have made great progress in understanding and treating this disease. Thanks to these efforts, the average life expectancy for people with cystic fibrosis has increased significantly in recent decades, and it is now approximately 30 years. In addition, advances in antibiotic therapy and the management of lung and digestive problems have improved the quality of life for these individuals.

Recent genetic research may also accelerate the discovery of a cure. To help advance the work to end cystic fibrosis, my Administration is dedicated to increasing Federal funding for medical research at the National Institutes of Health. Until cystic fibrosis is eliminated, we are hopeful that our research efforts will continue to extend and improve the quality of life of those stricken with this grave disease.

NOW, THEREFORE, I, GEORGE W. BUSH, President of the United States of America, by virtue of the authority vested in me by the Constitution and laws of the United States, do hereby proclaim October 13 through October 19, 2002, as National Cystic Fibrosis Awareness Week. I call upon all Americans to observe this week with appropriate programs, ceremonies, and activities.

IN WITNESS WHEREOF, I have hereunto set my hand this eleventh day of October, in the year of our Lord two thousand two, and of the Independence of the United States of America the two hundred and twenty-seventh.

B

[FR Doc. 02-26628

Filed 10-16-02; 8:45 am]

Billing code 3195-01-P